ENVIRONMENTAL PROTECTION AGENCY

40 CFR Part 81

[EPA-R05-OAR-2018-0368; EPA-R05-OAR-2018-0556; FRL-9985-10-Region 5]

Air Quality Designation; Illinois; Indiana; Revised Designation of Illinois and Indiana 2012 PM2.5 Unclassifiable Areas

AGENCY: Environmental Protection Agency (EPA).

ACTION: Proposed rule.

SUMMARY: The Environmental Protection Agency (EPA) is proposing to approve Illinois' May 8, 2018 request to revise the designation for the entire state of Illinois from unclassifiable to unclassifiable/attainment and Indiana's July 3, 2018 request to revise the designation for the Indiana portions of the Chicago IL-IN and Louisville KY-IN (herein referred to as Chicago and Louisville) areas from unclassifiable to unclassifiable/attainment for the 2012 primary and secondary annual fine particulate matter (PM2.5) National Ambient Air Quality Standards (NAAQS). EPA is proposing to approve these requests because valid, quality-assured, and certified ambient air monitoring data show that the PM2.5 monitors in the areas are meeting the 2012 primary and secondary annual PM2.5 NAAQS. This includes data from monitors in Illinois where data substitution rules have been applied consistent with applicable regulations.

DATES: Comments must be received on or before November 8, 2018.

ADDRESSES: Submit your comments, identified by Docket ID No. EPA-R05-OAR-2018-0368 (Illinois) or EPA-R05-OAR-2018-0556 (Indiana) at http://www.regulations.gov, or via email to aburano.douglass@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Michelle Becker, Life Scientist, Attainment Planning and Maintenance Section, Air Programs Branch (AR-18J), Environmental Protection Agency, Region 5, 77 West Jackson Boulevard, Chicago, Illinois 60604, (312) 886-3901, becker.michelle@epa.gov.

SUPPLEMENTARY INFORMATION: Throughout this document whenever “we,” “us,” or “our” is used, we mean EPA. This supplementary information section is arranged as follows:

I. Background

II. What are the criteria for redesignating an area from unclassifiable to unclassifiable/attainment?

III. What is EPA's rationale for proposing to revise the designation areas?

IV. What action is EPA taking?

V. Statutory and Executive Order Reviews

I. Background

The Clean Air Act (CAA) establishes a process for air quality management through the establishment and implementation of the NAAQS. After the promulgation of a new or revised NAAQS, EPA is required to designate areas, pursuant to section 107(d)(1) of the CAA, as attainment, nonattainment, or unclassifiable. On December 14, 2012, EPA promulgated a revised primary annual PM2.5 NAAQS to provide increased protection of public health from fine particle pollution (78 FR 3086, January 15, 2013). In that action, EPA revised the primary annual PM2.5 standard from 15.0 micrograms per cubic meter (μg/m³) to 12.0 μg/m³, which is attained when the 3-year average of the annual arithmetic mean concentration does not exceed 12.0 μg/m³. See also 40 CFR 50.18. EPA established the standards based on significant evidence and numerous health studies demonstrating that serious health effects are associated with exposures to fine particulate matter.

The process for designating areas following promulgation of a new or revised NAAQS is contained in section 107(d)(1) of the CAA. On January 15, 2015 (80 FR 2206) and April 7, 2015 (80 FR 18535), EPA designated areas across the country as nonattainment, unclassifiable, or unclassifiable/attainment for the PM2.5 NAAQS based upon air quality monitoring data from monitors for calendar years 2011-2013 or 2012-2014.

In the first action referenced above, EPA designated the entire state of Illinois, including the multi-state areas of Chicago, IL-IN and St. Louis, MO-IL (herein referred to as St. Louis), as unclassifiable because the ambient air quality monitoring sites lacked complete data for the relevant periods, which were from 2011-2013. Therefore, EPA could not determine, based on available information, whether those areas were meeting the 2012 PM2.5 NAAQS. EPA also designated the Louisville area as nonattainment, based on monitoring data for Clark and Floyd counties for 2011-2013 showing that a monitor in Clark County had a design value above the standard.

On April 7, 2015 (80 FR 18535), EPA changed the Louisville area initial designation from nonattainment to unclassifiable. Although Indiana submitted complete, quality-assured and certified 2014 data from the Clark County monitor showing it was attaining the NAAQS, EPA noted that an air quality determination was not possible due to invalid monitoring data for neighboring Jefferson County, Kentucky.

On May 8, 2018, Illinois submitted to EPA a request to “redesignate” the State of Illinois, including the St. Louis area, from unclassifiable to unclassifiable/attainment based on three years of quality-assured, certified ambient air monitoring data for the three-year period of 2015-2017.

On July 3, 2018, Indiana submitted to EPA a request to “redesignate” the Louisville and Chicago areas from unclassifiable to unclassifiable/attainment based on three years of quality-assured, certified ambient air monitoring data for the three-year period of 2015-2017.

II. What are the criteria for revising a designation an area from unclassifiable to unclassifiable/attainment?

Section 107(d)(3) of the CAA provides the framework for changing the area designations for any NAAQS pollutants. Section 107(d)(3)(A) provides that the Administrator may notify the Governor of any state that the designation of an area should be revised “on the basis of air quality data, planning and control considerations, or any other air quality-related considerations the Administrator deems appropriate.” The CAA further provides in section 107(d)(3)(D) that even if the Administrator has not notified a state Governor that a designation should be revised, the Governor of any state may, on the Governor's own motion, submit a request to revise the designation of any area, and the Administrator must approve or deny the request.

When approving or denying a request to redesignate an area, EPA bases its decision on the air quality data for the area as well as the considerations provided under section 107(d)(3)(A). While CAA section 107(d)(3)(E) lists specific requirements for redesignations, those requirements only apply to redesignations of nonattainment areas to attainment and therefore are not applicable in this context of a revised designation of an area from unclassifiable to unclassifiable/attainment. In keeping with section 107(d)(3)(A), areas that request a revised designation to unclassifiable/attainment must meet the requirements for attainment areas and thus must meet the relevant NAAQS. The relevant monitoring data must be collected and quality-assured in accordance with 40 CFR part 58 and recorded in the EPA Air Quality System (AQS) database. The designated monitors generally should have remained at the same location for the duration of the monitoring period upon which the revised designation request is based.¹

¹ See Memorandum from John Calcagni, Director, EPA Air Quality Management Division, entitled “Procedures for Processing Requests to Redesignate Areas to Attainment” (September 4, 1992).

Additionally, appendix N of 40 CFR part 50 specifies the data handling conventions and computations necessary for determining when the NAAQS for PM2.5 are met. Appendix N contains data substitution tests, which allow incomplete monitoring data to be considered valid in certain instances prescribed by the rules. Appendix N also provides that, when the data substitution test conditions do not apply, EPA may consider other factors, such as monitoring site closures/moves, monitoring diligence, the consistency and levels of the daily values that are available, and nearby concentrations in determining whether to use such data. See 4.1(d) of appendix N.

III. What is EPA's rationale for proposing to revise the designation areas?

In order to revise the designation of an area from unclassifiable to unclassifiable/attainment for the 2012 primary and secondary annual PM2.5 NAAQS, the 3-year average of annual arithmetic mean concentrations (i.e., design value) over the most recent 3-year period must be less than or equal to 12.0 µg/m³ at all monitoring sites in the area over the full 3-year period, as determined in accordance with 40 CFR 50.18 and appendix N of part 50. EPA reviewed PM2.5 monitoring data from monitoring stations in the state of Illinois as well as the multi-state areas of St. Louis, Chicago, and Louisville for the 2012 primary and secondary annual PM2.5 NAAQS for the 3-year period of 2015-2017. These data have been quality-assured, certified, and recorded in AQS by Illinois, Indiana, Kentucky, and Missouri. As summarized in Tables 1-4, the design values for the monitors in the areas for the 2015-2017 period are below the 2012 primary and secondary annual PM2.5 NAAQS.

Table 1—2012 Annual PM2.5 Design Values for Monitors in the Chicago, IL-IN Area for 2015-2017
Local site name | Monitoring site | 2015-2017 design value (μg/m³)
Alsip | 17-031-0001 | 9.5
Washington High School | 17-031-0022 | 9.3
Mayfair Pump Station | 17-031-0052 | 9.1
Springfield Pump Station | 17-031-0057 | 10.2
Com Ed | 17-031-0076 | 9.5
Schiller Park | 17-031-3103 | 10.5
Summit | 17-031-3301 | 9.7
Des Plaines | 17-031-4007 | 9.4
Northbrook | 17-031-4201 | 8.4
Cicero | 17-031-6005 | 10.0
Naperville | 17-043-4002 | 8.3
Elgin | 17-089-0003 | 8.3
Aurora | 17-089-0007 | 8.3
Cary | 17-111-0001 | + 8.2
Joliet | 17-197-1002 | 7.9
Braidwood | 17-197-1011 | 7.9
Washington School | 18-089-0006 | 9.3
Gary Water * | 18-089-0031 | 9.2
Purdue Calumet Powers Building * | 18-089-2004 | 8.7
Water Treatment Plant * | 18-127-0024 | 8.3
* Indiana monitor.
+ Data incomplete.

Table 2—2012 Annual PM2.5 Design Values for St. Louis, MO-IL Monitors for 2015-2017
Local site name | Monitoring site | 2015-2017 design value (μg/m³)
Jerseyville | 17-083-0117 | + 8.8
Granite City | 17-119-1007 | 9.7
Alton | 17-119-2009 | 8.8
Wood River | 17-119-3007 | 8.7
Houston | 17-157-0001 | 8.5
East St. Louis | 17-163-0010 | 9.8
Blair Street * | 29-510-0085 | 8.8
South Broadway * | 29-510-0007 | 8.7
Arnold West * | 29-099-0019 | 9.3
Ladue * | 29-189-3001 | 9.4
Forest Park * | 29-510-0094 | 8.5
* Missouri Monitor.
+ Data incomplete.

Table 3—2012 Annual PM2.5 Design Values for Monitors in Remaining Illinois Areas for 2015-2017
Local site name | Monitoring site | 2015-2017 design value (μg/m³)
Champaign | 17-019-0006 | 7.9
Bondville | 17-019-1001 | 7.8
Knight Prairie | 17-065-0002 | 8.2
Normal | 17-113-2003 | 8.0
Decatur | 17-115-0013 | 8.4
Peoria | 17-143-0037 | 8.2
Rock Island | 17-161-3002 | 8.1
Springfield | 17-167-0012 | 8.2
Rockford | 17-201-0013 | 8.3

Table 4—2012 Annual PM2.5 Design Values for Monitors in the Louisville Area for 2015-2017
Local site name | Monitoring site | 2015-2017 design value (μg/m ³)
Jefferson PFAU * | 18-019-0006 | 9.6
Charlestown State Park * | 18-019-0008 | 8.0
Green Valley Elementary School * | 18-043-1004 | 8.5
Southwick | 21-111-0043 | 9.7
Watson Lane | 21-111-0051 | 9.2
Cannons Lane | 21-111-0067 | 8.6
Durrett Lane | 21-111-0075 | 9.4
* Indiana monitors.

There are two groups of monitoring sites with incomplete data and for which data substitution rules were applied under appendix N of 40 CFR part 50. First, Illinois had eight monitoring sites with a data capture rate below 75 percent during at least one quarter, but had valid PM2.5 annual design values after applicable data substitution test conditions were applied consistent with section 4.1(c) of appendix N under 40 CFR part 50. These substitution rules were automatically applied in the EPA AQS database, and the data from these monitors all meet the 2012 PM2.5 NAAQS.²

² AQS contains ambient air pollution data collected by EPA, state, local, and tribal air pollution control agencies from over thousands of monitors and is used to assess air quality, assist in attainment/non-attainment designations, evaluate SIPs for non-attainment areas, and perform modeling for permit review analysis.

Second, Illinois had two monitoring sites, Cary (17-111-0001) and Jerseyville (17-183-0117), that had at least one calendar quarter of data capture below 75 percent and did not meet the substitution test conditions under section 4.1(c) of appendix N. Because the substitution test conditions were not applicable, EPA considered other factors under section 4.1(d) of appendix N, such as monitoring site closures/moves, the consistency of daily levels, and nearby concentrations in determining whether the data from the monitors was valid. In addition, EPA performed a substitution test similar to the test methods specified in 4.1(c). Based on consideration of these factors, EPA determined that the data from these monitors could be used and the data showed that the areas were meeting the PM2.5 NAAQS, as described in the tables above. For more information regarding EPA's analyses, see the Technical Support Document titled “Evaluation of IL Monitors without valid 2017 PM2.5 Design Values” (July 2, 2018).

Because the 3-year design values, based on valid, quality-assured data, demonstrate that the areas meet the 2012 primary and secondary annual PM2.5 standards, EPA is proposing to revise the designations of the entire state of Illinois, and the Indiana portions of the Chicago and Louisville areas from unclassifiable to unclassifiable/attainment for this NAAQS.

IV. What action is EPA taking?

EPA is proposing to approve Illinois' May 8, 2018 request to revise the designation of the entire state from unclassifiable to unclassifiable/attainment as well as Indiana's July 3, 2018 request to revise the designation of the Indiana portions of the Louisville and Chicago areas for the 2012 primary and secondary annual PM2.5 NAAQS. If finalized, approval of the revised designations requests would change the legal designation, found at 40 CFR part 81, for the state of Illinois and the Indiana counties of Lake, Porter, Clark, and Floyd from unclassifiable to unclassifiable/attainment for the 2012 primary and secondary annual PM2.5 NAAQS.

V. Statutory and Executive Order Reviews

Under the CAA the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 81

Environmental protection, Air pollution control, Particulate matter.

Dated: September 25, 2018.
James Payne,
Acting Regional Administrator, Region 5.

[FR Doc. 2018-21878 Filed 10-5-18; 8:45 am]

BILLING CODE 6560-50-P